DEPARTMENT OF THE INTERIOR

National Park Service

Notice of Inventory Completion: Springfield Science Museum, Springfield, MA

AGENCY: National Park Service, Interior.

ACTION: Notice.

Notice is here given in accordance with the Native American Graves Protection and Repatriation Act (NAGPRA), 25 U.S.C. 3003, of the completion of an inventory of human remains and associated funerary objects in the possession of the Springfield Science Museum, Springfield, MA. The human remains and associated funerary objects were removed from various sites in western Massachusetts, including Hampden and Hampshire Counties.

This notice is published as part of the National Park Service’s administrative responsibilities under NAGPRA, 25 U.S.C. 3003 (d)(3). The determinations within this notice are the sole responsibility of the museum, institution, or Federal agency that has control of the Native American human remains and associated funerary objects. The National Park Service is not responsible for the determinations within this notice.

A detailed assessment of the human remains was made by Springfield Science Museum professional staff in consultation with representatives of the Stockbridge Munsee Community, Wisconsin.

The human remains and associated funerary objects are described in this notice according to county and town, and site location when available.

Hampden County, MA.

In 1864, human remains representing one individual were removed from the Fort Hill site (also known as the Long Hill Street site), Springfield, Hampden County, MA, by local collector Alfred Booth. The remains were donated to the Springfield Science Museum by Mr. Booth in the same year. No known individual was identified. No associated funerary objects are present.

In 1895, human remains representing one individual were removed from the Fort Hill site (also known as the Long Hill Street site), Springfield, Hampden County, MA, by L.G. Grant, while excavating for the cellar of a house. The human remains were donated to the Springfield Science Museum in 1925 by J.T. Bowne, who had purchased them from G. Sherman in 1903. No known individual was identified. No associated funerary objects are present. According to Mr. Bowne’s journal, the human remains were encountered in fireplaces or pits.

The Fort Hill site dates to the Historic period. The settlement was built in 1666 and was occupied by Native Americans until 1675. The human remains were probably buried during this time.

In 1899 or before, human remains representing a minimum of one individual were removed from the Crescent Hill site, Springfield, Hampden County, MA, by Nathan D. Bill. Mr. Bill donated the human remains to the Springfield Science Museum in 1899. No known individual was identified. No associated funerary objects are present. At an unknown date, human remains representing a minimum of one individual were removed from the Crescent Hill site, Springfield, Hampden County, MA, by an unknown individual and were later acquired by the Springfield Science Museum. No known individual was identified. No associated funerary objects are present.

The Crescent Hill site does not have an established chronology, but it probably dates to the Late Woodland period or early in the Historic period.

In 1902, human remains representing a minimum of one individual were removed from the Chapin/Dakin site (also known as West Springfield Meadows), Hampden County, MA, by Dr. W.H. Chapin and were accessioned by the Springfield Science Museum in the same year. No known individual was identified. No associated funerary objects are present.

In 1903, human remains representing a minimum of one individual and, in 1907, human remains representing a minimum of four individuals were removed from the Chapin/Dakin site (also known as West Springfield Meadows), Hampden County, MA, by J.T. Bowne and were accessioned by the Springfield Science Museum in 1925. No known individuals were identified. No associated funerary objects are present.

Local history maintains that an extensive Woodland period habitation site existed at West Springfield Meadows. Objects found at the site but not associated with the burials include Levanna-type projectile points and pottery, which suggest a Middle to Late Woodland period occupation (A.D. 100-1500).

In 1912 or before, human remains representing a minimum of one individual were removed from the north side of Meadow Road, 200 feet from the State Road (known as the Meadow/State Road site) in Longmeadow, Hampden County, MA, by R.O. Morris. The Springfield Science Museum acquired the remains from Mr. Morris in 1912. No known individual was identified. No associated funerary objects are present.

Although the Meadow/State Road site has not been dated, the burial location and mortuary practices are consistent with Native American interments found in western Massachusetts during the Late Woodland period and early in the Historic period.

In 1917 or before, human remains consisting of one complete human skeleton, representing one individual, were removed from a site on the Chicopee River opposite the Page-Storm Drop Forge Company, Chicopee, Hampden County, MA, by F.T. Ley. The Springfield Science Museum acquired the human remains in 1917. No known individual was identified. No associated funerary objects are present.

Although this site has not been dated, the burial location and mortuary practices are consistent with Native American interments found in western Massachusetts during the Late Woodland period and early in the Historic period.

In 1917 or before and 1918 or before, human remains consisting of two partial skeletons, representing a minimum of two individuals, were removed from the north bank of the Chicopee River at the junction with the Connecticut River, Chicopee, Hampden County, MA, by F.T. Ley. The Springfield Science Museum acquired the human remains and associated funerary objects in 1917 and 1918. No known individuals were identified. The eight associated funerary objects acquired in 1917 are one hammer stone, one fire-cracked rock, five flakes, and one unidentified stone artifact.

Although this site has not been dated, the burial location and mortuary practices are consistent with Native American interments found in western Massachusetts during the Late Woodland period and early in the Historic period.

In 1921 or before, human remains consisting of a partial cranium, representing one individual, were removed from an unknown site in Hampden County, MA, by local collector E H. Barney. The Springfield Science Museum acquired the human remains from Mr. Barney in 1921. No known individual was identified. No associated funerary objects are present.

Although there is no age information contained in the museum records, the condition of the human remains suggests a Late Woodland or later date (post-A.D. 1000).

In 1923 or before, human remains representing a minimum of one individual were removed from the bank of the Agawam River, Agawam, Hampden County, MA, by A.C. Yost. The remains were donated to the Springfield Science Museum by Mr. Yost in 1923. No known individual was identified. No associated funerary objects are present.

Although this site has not been dated, the burial location and mortuary practices are consistent with Native American interments found in western Massachusetts during the Late Woodland period and early in the Historic period.

In 1925 or before, human remains representing a minimum of one individual were removed from the Smith Farm site, South Hadley Falls, Hampden County, MA, by local collector W.B. Sturtevant. The remains were donated to the Springfield Science Museum by Mr. Sturtevant in 1925. No known individual was identified. No associated funerary objects are present. The bones are stained green from the presence of copper in the burial, suggesting that this was an Adena burial dating to the Early Woodland period (1000-200 B.C.).

In 1933 or before, human remains representing a minimum of two individuals were removed from the west end of the South End Bridge, Springfield, Hampden County, MA, by an unknown collector. The remains were donated to the Springfield Science Museum by the W.H. Graham Corporation in 1933. No known individuals were identified. No associated funerary objects are present.

Although this site has not been dated, the burial location and mortuary practices are consistent with Native American interments found in western Massachusetts during the Late Woodland period and early in the Historic period.

At an unknown date, human remains representing a minimum of one individual were removed from the grounds of the Page-Storm Drop Forge Company, Chicopee, Hampden County, MA, by an unknown person. The Springfield Science Museum acquired the human remains from Mrs. F. Storm in 1937. No known individual was identified. No associated funerary objects are present.

Although this site has not been dated, the burial location and mortuary practices are consistent with Native American interments found in western Massachusetts during the Late Woodland period and early in the Historic period.

At an unknown date during the 1940s, human remains representing a minimum of one individual were removed from the Alsing’s Rock Shelter site in Wilbraham, Hampden County, MA, by H. Morhman. The Springfield Science Museum acquired the human remains and associated funerary objects from Mr. Morhman in 1977. No known individual was identified. The 132 associated funerary objects are 47 charcoal fragments, 1 rodent tooth, 61 burned animal bone fragments, 8 wood fragments, 1 quartz Levanna point, 8 shell fragments, 1 quartzite flake, and 5 stone core fragments. The quartz Levanna point suggests that the site dates to the Late Woodland period (A.D. 1000-1500).

In 1975 or before, human remains representing a minimum of one individual were removed from 943 Main Street, Agawam, Hampden County, MA, by H.A. Briggs. The Springfield Science Museum acquired the human remains and associated funerary objects from Mr. Briggs in 1975. No known individual was identified. The nine associated funerary objects are flint blades.

Although this site has not been dated, the burial location and mortuary practices are consistent with Native American interments found in western Massachusetts during the Late Woodland period and early in the Historic period.

In the 1960s, human remains representing a minimum of 49 individuals were removed from the Guida Farm site, Westfield, Hampden County, MA, by W.R. Young. The Springfield Science Museum acquired the human remains and associated funerary objects from Mr. Young in 1979. No known individuals were identified. The 126 associated funerary objects are 1 adze blade tip; 46 charcoal pieces; 17 faunal fragments; 11 chert, quartz, quartzite, and basalt flakes; 1 burned nut hull; 1 quartzite projectile point; 2 igneous rock fragments; and 47 cord-marked, incised, and undecorated pottery sherds.

The Guida Farm site is described by Douglas S. Byers and Irving Rouse in a Bulletin of the Archaeological Society of Connecticut article published in 1960 as a habitation site with burial components dating from the Early Woodland through the Late Woodland period (circa 1000 B.C.-A.D. 1500).

Hampshire County, MA.

In 1957, human remains representing a minimum of two individuals were removed from the Fort River site, Hadley, Hampshire County, MA, by W.R. Young. The remains were accessioned by the Springfield Science Museum in 1979. No known individuals were identified. No associated funerary objects are present.

Although the Fort River site has not been dated, the burial location and mortuary practices are consistent with Native American interments found in western Massachusetts during the Late Woodland period and early in the Historic period.

At an unknown date, human remains representing a minimum of one individual were removed from a site in North Hadley, Hampshire County, MA, by an unknown collector. The Springfield Science Museum acquired the remains in 1975 from an unknown person. No known individual was identified. No associated funerary objects are present.

Although this site has not been dated, the burial location and mortuary practices are consistent with Native American interments found in western Massachusetts during the Late Woodland period and early in the Historic period.

At an unknown date, human remains representing a minimum of one individual were removed from a burial site in North Hadley, Hampshire County, MA, by W.R. Young. The year in which the Springfield Science Museum acquired the human remains and associated funerary object is uncertain, but it may have been 1979. No known individual was identified. The one associated funerary object is a retouched flake.

Although this site has not been dated, the burial location and mortuary practices are consistent with Native American interments found in western Massachusetts during the Late Woodland period and early in the Historic period.

In 1986 or before, human remains representing a minimum of one individual were removed from site 19-HS-276, in North Hatfield, Hampshire County, MA, by W.S. Rodimon. The Springfield Science Museum acquired the human remains from Mr. Rodimon in 1986. No known individual was identified. No associated funerary objects are present.

Although site 19-HS-276 has not been dated, the burial location and mortuary practices are consistent with Native American interments found in western Massachusetts during the Late Woodland period and early in the Historic period.

In 1996, human remains representing a minimum of one individual were removed from a site at South Hadley Falls, Hampshire County, MA, by C.S. Allen. The Springfield Science Museum acquired the human remains and associated funerary objects from Mr. Allen in the same year. No known individual was identified. The 45 associated funerary objects are copper beads. The presence of copper beads suggests that the burial is Adena, dating the site to the Early Woodland period (circa 1000-200 B.C.).

At an unknown date, human remains representing a minimum of one individual were removed from a site in North Amherst, Hampshire County, MA, by an unknown collector. It is unknown how and when the Springfield Science Museum acquired the human remains. No known individual was identified. No associated funerary objects are present.

Although this site has not been dated, the burial location and mortuary practices are consistent with Native American interments found in western Massachusetts during the Late Woodland period and early in the Historic period.

Western Massachusetts.

In 1917 or before, human remains consisting of two crania, representing two individuals, were removed from an unknown site in western Massachusetts by an unknown individual. The Springfield Science Museum acquired the human remains in 1917 by unknown means. No known individuals were identified. No associated funerary objects are present.

Although there is no age information contained in the museum records, the condition of the human remains suggests a Late Woodland period or later date (post-A.D. 1000).

At unknown dates, human remains representing a minimum of four individuals were removed from unknown sites in western Massachusetts by unknown collectors. It is unknown how and when the Springfield Science Museum acquired the human remains. No known individuals were identified. No associated funerary objects are present.

Although there is no age information contained in the museum records, the condition of the human remains suggests a Late Woodland period or later date (post-A.D. 1000).

Based on historic documentation, geographic location of the burials, and oral history, the human remains and associated funerary objects described above are most likely to be culturally affiliated with the present-day Stockbridge Munsee Community, Wisconsin. All of the western Massachusetts sites described above lie within the known homeland of the Mohican Indians. Occupation of the area by the Mohican Indians is well documented for the Historic period, and Mohican oral history maintains that there is also prehistoric occupation in the Hudson and Connecticut River Valleys. The Mohican Indians are represented today by the Stockbridge Munsee Community, Wisconsin.

Officials of the Springfield Science Museum have determined that, pursuant to 25 U.S.C. 3001 (9-10), the human remains described above represent the physical remains of 84 individuals of Native American ancestry. Officials of the Springfield Science Museum also have determined that, pursuant to 25 U.S.C. 3001 (3)(A), the 321 objects listed above are reasonably believed to have been placed with or near individual human remains at the time of death or later as part of the death rite or ceremony. Lastly, officials of the Springfield Science Museum have determined that, pursuant to 25 U.S.C. 3001 (2), there is a relationship of shared group identity that can be reasonably traced between the Native American human remains and associated funerary objects and the Stockbridge Munsee Community, Wisconsin.

Representatives of any other Indian tribe that believes itself to be culturally affiliated with the human remains and associated funerary objects should contact David Stier, Director, Springfield Science Museum, 220 State Street, Springfield, MA 01103, telephone (413) 263-6800, extension 321, before September 19, 2003. Repatriation of the human remains and associated funerary objects to the Stockbridge Munsee Community, Wisconsin may proceed after that date if no additional claimants come forward.

The Springfield Science Museum is responsible for notifying the Stockbridge Munsee Community, Wisconsin that this notice has been published.

Dated: July 10, 2003.
John Robbins,
Assistant Director, Cultural Resources.

[FR Doc. 03-21336 Filed 8-19-03; 8:45 am]

BILLING CODE 4310-70-S